DEPARTMENT OF HEALTH AND HUMAN SERVICES

Centers for Disease Control and Prevention

[60 Day-02-76]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Survey to Determine the Capacity for Colorectal Cancer Screening and Follow-up Examinations at the State Level—New—National Center for Chronic Disease Prevention and Health Promotion, Centers for Disease Control and Prevention (CDC). CDC proposes to conduct a study to provide a state-level assessment of the current capacity to conduct colorectal cancer (CRC) screening and follow-up examinations for average risk persons aged 50 and older. CDC is in the process of administering the “National Survey of Endoscopic Capacity (SECAP)”. The tasks involved in this national capacity assessment included creating a list of all health care providers who own and use endoscopes for CRC screening and diagnostic follow-up; developing and administering a survey instrument to health care providers across the country who own lower GI endoscopes; and developing a tool to assess the number of people currently unscreened. The data from the SECAP study will be analyzed at the national and regional level. In response to state requests, CDC would like to assist states in assessing the state-level capacity to provide colorectal cancer (CRC) screening and follow-up examinations to appropriate persons.

The proposed study will be conducted through the implementation of a survey which will be mailed to a random sample of 800 providers known to possess flexible sigmoidoscopes and colonoscopes in three states. The sampling frame includes all types of physician specialists and health care providers who own lower endoscopic equipment and may be screening for CRC. The survey will provide information on the types of health care providers who are performing CRC screening and follow-up examinations, the equipment currently being used for screening and follow-up examinations, and current reimbursement rates for these tests. The results of the analysis will be used to (1) identify state-level deficits in the medical infrastructure, (2) guide the development of state-level training initiatives and educational programs for health care providers, and (3) provide critical baseline information for state policy makers for the planning of state-level initiatives to increase colorectal cancer screening. CDC is currently in the process of selecting participating states through a competitive process.

Respondents | No. of respondents | No. of responses/ respondent | Avg. burden/response (in hours) | Total burden (in hours)
Health Care Providers | 800 | 1 | 20/60 | 267
Office Managers | 800 | 1 | 20/60 | 267
Total |  |  |  | 534

Dated: August 28, 2002.
Nancy E. Cheal,
Acting Associate Director for Policy, Planning and Evaluation, Centers for Disease Control and Prevention.

[FR Doc. 02-22553 Filed 9-4-02; 8:45 am]

BILLING CODE 4163-18-P